DEPARTMENT OF LABOR

Employment and Training Administration

[TA-W-36,949 and 949A]

Spring Ford Industries, Inc.; Plant No. 1 and Plant No. 2, Chilhowie, Virginia and Sparta Plant, Sparta, North Carolina; Amended Certification Regarding Eligibility to Apply for Worker Adjustment Assistance

In accordance with Section 223 of the Trade Act of 1974 (19 USC 2273) the Department of Labor issued a Certification of Eligibility to Apply for Worker Adjustment Assistance on January 19, 2000, applicable to workers of Spring Ford Industries, Inc., Plant No. 1 and Plant No. 2, Chilhowie, Virginia. The notice was published in the Federal Register on February 4, 2000 (65 FR 5690).

At the request of the petitioners, the Department reviewed the certification for workers of the subject firm. New information shows that worker separations occurred in January, 2000 at the Sparta Plant of Spring Ford Industries, Inc., Sparta, North Carolina. The workers are engaged in employment related to the production of tee shirts.

Accordingly, the Department is amending the certification to cover workers of Spring Ford Industries, Inc., Sparta Plant, Sparta, North Carolina.

The intent of the Department's certification is to include all workers of Spring Ford Industries, Inc., adversely affected by increased imports.

The amended notice applicable to TA-W-36,949 is hereby issued as follows:

All workers of Plant No. 1 and Plant No. 2 of Spring Ford Industries, Inc., Chilhowie, Virginia (TA-W-36,949) and Sparta Plant, Sparta, North Carolina (TA-W-36,949A) who became totally or partially separated from employment on or after September 28, 1998 through January 19, 2002 are eligible to apply for adjustment assistance under Section 223 of the Trade Act of 1974.

Signed at Washington, DC, this 24th day of March, 2000.
Grant D. Beale,
Program Manager, Division of Trade Adjustment Assistance.

[FR Doc. 00-8239 Filed 4-3-00; 8:45 am]

BILLING CODE 4510-30-M